DEPARTMENT OF AGRICULTURE

Submission for OMB Review; Comment Request

February 21, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by March 26, 2018 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Rural Business—Cooperative Service

Title: Rural Energy for America Program.

OMB Control Number: 0570-0067.

Summary of Collection: The collection of this information is required pursuant to the passing of the Food, Conservation, and Energy Act of 2008 (2008 Farm Bill), which established the Rural Energy for America Program (REAP) under Title IX, Section 9007. The Agricultural Act of 2014 (2014 Farm Bill) continued this authority except that the ability to make grants for feasibility studies has been removed from REAP. REAP provides grants and loan guarantees to eligible agricultural producers and rural small businesses for the purchase of renewable energy systems and the implementation of energy efficiency improvements. REAP also provides grants for eligible entities to conduct energy audits and provide renewable energy development assistance.

Need and Use of the Information: Information will be collected using several forms and non-forms. The information will be used to determine applicant eligibility and feasibility, and to ensure that grantees/borrowers operate on a sound basis and use funds for authorized purposes. Failure to collect proper information could result in improper determinations of eligibility or improper use of funds.

Description of Respondents: Business or other for-profit; Individuals; State, local government, or Tribal.

Number of Respondents: 1,918.

Frequency of Responses: Recordkeeping; Reporting: On occasion; Monthly; Annually.

Total Burden Hours: 109,986.

Ruth Brown,
Departmental Information Collection Clearance Officer.

[FR Doc. 2018-03797 Filed 2-23-18; 8:45 am]

BILLING CODE 3410-XY-P